COMMODITY FUTURES TRADING COMMISSION

17 CFR Part 1

RIN 3038-AB50

Proposed Revision of the Commission's Procedures for the Review of Contract Market Rules

AGENCY: Commodity Futures Trading Commission.

ACTION: Extension of comment period.

SUMMARY: On November 26, 1999, the Commodity Futures Trading Commission (“Commission”) published in the Federal Register a request for public comment on a proposal to revise its procedures for the review of contract market rules and rule amendments (64 FR 66428). The original comment period expires January 25, 2000. By letter dated January 3, 2000, seven agricultural organizations requested a thirty day extension of the comment period to permit the membership of each organization to fully consider the implications of the proposed procedures.¹

¹ The request was made in a January 3, 2000 letter jointly signed by the American Farm Bureau Federation, the American Soybean Association, the National Association of Wheat Growers, the National Cattlemen's Beef Association, the National Corn Grower's Association, the National Farmers Union, and the National Pork Producers Council.

The Commission has determined to extend the comment period for thirty days in order to insure that an adequate opportunity is provided for submission of meaningful comments.

EFFECTIVE DATE: Written comments must be received on or before February 24, 2000.

ADDRESSES: Comments on the proposal should be sent to Jean A. Webb, Secretary, Commodity Futures Trading Commission, Three Lafayette Center, 1155 21st Street, NW, Washington, DC 20581. Comments may be sent by facsimile transmission to (202) 418-5521, or by e-mail to secretary @cftc.gov. Reference should be made to “Procedure for the Review of Contract Market Rules”.

FOR FURTHER INFORMATION CONTACT: David P. Van Wagner, Associate Director, Division of Trading and Markets, Commodity Futures Trading Commission, Three Lafayette Centre, 1155 21st Street, NW, Washington, DC 20581. Telephone Number: (202) 418-5490. Facsimile Number: (202) 418-5536. Electronic Mail: tm@cftc.gov.

Issued in Washington, D.C. on January 18, 2000 by the Commission.
Jean A. Webb,
Secretary of the Commission.

[FR Doc. 00-1568 Filed 1-21-00; 8:45 am]

BILLING CODE 6351-01-M